DEPARTMENT OF STATE

[Public Notice 11232]

30-Day Notice of Proposed Information Collection: Electronic Medical Examination for Visa Applicant

ACTION: Notice of request for public comment and submission to OMB of proposed collection of information.

SUMMARY: The Department of State (“Department”) is seeking Office of Management and Budget (“OMB”) approval for the information collection described below. In accordance with the Paperwork Reduction Act of 1995 and implementing OMB guidance, we are requesting comments on this collection from all interested individuals and organizations. The purpose of this notice is to allow 30 days for public comment.

DATES: Submit comments up to November 23, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Megan Herndon, Senior Regulatory Coordinator, Visa Services, Bureau of Consular Affairs at (202) 485-7586 or PRA_BurdenComments@state.gov.

SUPPLEMENTARY INFORMATION:

• Title of Information Collection: Electronic Medical Examination for Visa Applicant.

• OMB Control Number: 1405-0230.

• Type of Request: Revision of a Currently Approved Collection.

• Originating Office: CA/VO.

• Form Number: DS-7794.

• Respondents: Panel Physician/Visa Applicants.

• Estimated Number of Respondents: 580,330.

• Estimated Number of Responses: 580,330.

• Average Time per Response: 1 hour.

• Total Estimated Burden Time: 580,330 annual hours.

• Frequency: Once per respondent.¹

¹ The majority of applicants only need to complete medical examinations, and therefore these forms once. However, medical exams are valid for a period of three to six months from the examination date. Therefore, if an applicant's medical examination expires prior to travel, then the applicant may need to undergo a new medical examination and therefore complete the forms more than once.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This electronic collection records medical information necessary to determine whether visa applicants have medical conditions affecting the applicant's eligibility for a visa.

Methodology

Approved panel physicians will be granted access to an eMedical system by the Department to conduct medical examinations for visa eligibility determinations. The pilot program for the eMedical system launched in September 2018. The eMedical system was rolled out in six waves, the first wave of the rollout was in July 2019, and the final wave was in May 2020. Immigrant visa applicants with a completed and submitted DS-260, Application for Immigrant Visa and Alien Registration will have their medical exam results submitted to the Department via the eMedical system. The panel physician will input the exam information into the eMedical portal and it will be transmitted to the Department for visa adjudication and retained in the Department's systems consistent with the Department's record disposition schedule for visas. The entire medical package (all forms that comprise the panel physician medical examination) for visa applicants identified by a panel physician as having a CLASS A or CLASS B medical condition is shared with the Centers for Disease Control and Prevention (CDC), in paper, or electronically. The only documentation related to the panel physician examination that is not shared with CDC is the X-ray results, which panel physicians provide directly to the visa applicants and are not a part of the visa package. None of the medical package for visa applicants who are not identified as having a CLASS A or CLASS B medical condition is systematically shared with CDC. On a case by case basis, information from the medical package could be shared with CDC if specific information is necessary for the administration or enforcement of U.S. law, consistent with INA 222(f), 8 U.S.C. 1202(f).

Edward J. Ramotowski,
Deputy Assistant Secretary, Bureau of Consular Affairs, Department of State.

[FR Doc. 2020-23494 Filed 10-22-20; 8:45 am]

BILLING CODE 4710-06-P